ENVIRONMENTAL PROTECTION AGENCY

[OPPTS-51944; FRL-6554-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from February 28, 2000 to March 17, 2000, consists of the PMNs, pending or expired, and the notices of commencement to manufacture a new chemical that the Agency has received under TSCA section 5 during this time period.

ADDRESSES: Comments may be submitted by mail, electronically, or in person. Please follow the detailed instructions for each method as provided in Unit I. of the SUPPLEMENTARY INFORMATION. To ensure proper receipt by EPA, it is imperative that you identify docket control number OPPTS-51944 and the specific PMN number in the subject line on the first page of your response.

FOR FURTHER INFORMATION CONTACT: Barbara Cunningham, Director, Office of Program Management, and Evaluation, Office of Pollution Prevention and Toxics (7401), Office of Pollution Prevention and Toxics, Environmental Protection Agency, Ariel Rios Bldg., 1200 Pennsylvania Ave., NW., Washington, DC 20460; telephone numbers: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations” and then look up the entry for this document under the “Federal Register_Environmental Documents.” You can also go directly to the “Federal Register” listings at http://www.epa.gov/fedrgstr/.

2. In person. The Agency has established an official record for this action under docket control number OPPTS-51944. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51944 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51944 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from February 28, 2000 to March 17, 2000, consists of the PMNs, pending or expired, and the notices of commencement to manufacture a new chemical that the Agency has received under TSCA section 5 during this time period.

III. Receipt and Status Report for PMNs

This status report identifies the PMNs, pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 73 Premanufacture Notices Received From: 02/28/00 to 03/17/00
Case No. | Received Date | Projected Notice End Date | Manufacturer/Importer | Use | Chemical
P-00-0557 | 02/28/00 | 05/28/00 | CBI | (G) Raw material for can coatings | (G) Epoxy modified saturated polyester resin
P-00-0558 | 02/28/00 | 05/28/00 | BIC USA Inc. | (G) A colorant for inks | (G) Solvent black 46
P-00-0559 | 02/28/00 | 05/28/00 | BIC USA Inc. | (G) A colorant for inks | (G) Solvent blue 43
P-00-0564 | 02/28/00 | 05/28/00 | CBI | (G) Raw material for coil coatings | (G) Saturated polyester resin solid
P-00-0565 | 02/29/00 | 05/29/00 | Englehard Corporation | (S) A colorant for plastics | (G) Azo violet pigment
P-00-0566 | 02/29/00 | 05/29/00 | Englehard Corporation | (S) A colorant for plastics | (G) Azo violet pigment
P-00-0567 | 02/29/00 | 05/29/00 | CBI | (G) Component of coating with open use | (G) Melamine
P-00-0568 | 02/29/00 | 05/29/00 | CBI | (G) Component of coating with open use | (G) Melamine
P-00-0569 | 02/29/00 | 05/29/00 | CBI | (G) Component of coating with open use | (G) Melamine
P-00-0570 | 02/29/00 | 05/29/00 | CBI | (G) Component of coating with open use | (G) Melamine
P-00-0571 | 02/29/00 | 05/29/00 | CBI | (G) Component of coating with open use | (G) Melamine
P-00-0572 | 02/29/00 | 05/29/00 | CBI | (G) Component of coating with open use | (G) Melamine
P-00-0573 | 02/29/00 | 05/29/00 | CBI | (S) A raw material to manufacture an agricultural chemical (pesticide or an intermediate to pesticide). | (G) Aryloxyalkanoic acid
P-00-0574 | 02/28/00 | 05/28/00 | Choisy-Tek (USA) Ltd. | (S) Raw material surfactant for formulators | (S) Glycine, N-(carboxymethyl)-N-[3-(hexyloxy)propyl]-, branched, momosodium salts
P-00-0575 | 02/28/00 | 05/28/00 | Choisy-tek (USA) Ltd. | (S) Raw material surfactant for formulators | (S) Glycine, N-(3-aminopropyl)-, mono (carboxymethyl) deriv., N′-coco alkyl derivs., disodium salts
P-00-0576 | 02/28/00 | 05/28/00 | Choisy-tek (USA) Ltd. | (S) Raw material surfactant for formulators | (S) β-alanine, N-(2-carboxyethyl)-N-[3-(dimethylamino)propyl]-, monosodium salt*
P-00-0577 | 02/28/00 | 05/28/00 | Choisy-tek (USA) Ltd. | (S) Raw material surfactant for formulators | (S) β-alanine, N-(2-carboxyethyl)-N-[3-(1-methylethoxy)propyl]-, monosodium salt*
P-00-0578 | 02/29/00 | 05/29/00 | CBI | (G) Coating of coating with open use | (G) Polyester
P-00-0579 | 02/29/00 | 05/29/00 | CBI | (G) Coating of coating with open use | (G) Polyester
P-00-0580 | 02/29/00 | 05/29/00 | CBI | (G) Coating of coating with open use | (G) Polyester
P-00-0581 | 02/29/00 | 05/29/00 | CBI | (G) Coating of coating with open use | (G) Polyester
P-00-0582 | 02/29/00 | 05/29/00 | CBI | (G) Coating of coating with open use | (G) Polyester
P-00-0583 | 03/01/00 | 05/30/00 | Johnson Matthey Catalog Company, Inc. | (G) Ink additive | (S) 1-butanaminium, N,N,N-tributyl-, hexafluorophosphate(1-)*
P-00-0584 | 03/01/00 | 05/30/00 | CBI | (G) Open non-dispersive (coatings resin) | (G) Urethane acrylate resin, blocked
P-00-0585 | 03/01/00 | 05/30/00 | CBI | (S) Edible oil;industrial lubricant | (G) Sunflower triacylglycerol, triacyglyceride of sunflower oil
P-00-0586 | 03/01/00 | 05/30/00 | CBI | (G) Component of a primer product | (G) Silane coupling agent
P-00-0587 | 03/01/00 | 05/30/00 | 3M Company | (G) Amine curative | (G) Amine terminated resin
P-00-0588 | 03/03/00 | 06/01/00 | CBI | (G) Adhesive binders | (G) Ketoxime blocked ppdi/polyether prepolymers
P-00-0589 | 03/03/00 | 06/01/00 | CIBA Specialty Chemicals Corporation | (S) Optical brightner in uv reacting coatings to detect voids in automotive clearcoats; component of security printing in the marking of paper currency, documents | (S) 1h-pyrrole-2,5-dione, 1,1′-(1,2-ethanediyl)bis[3,4-diphenyl-*
P-00-0590 | 03/06/00 | 06/04/00 | Reichhold, Inc. | (S) Polyester binders for baked industrial maintenance finishings | (G) Polyester resin
P-00-0591 | 03/01/00 | 05/30/00 | Exxon Mobil Chemical Company | (S) Polymerization catalyst | (G) Organometallic compound
P-00-0592 | 03/06/00 | 06/04/00 | 3M Company | (S) Low adhesion backside coating for paper | (G) Siloxyacrylate polymer
P-00-0593 | 03/06/00 | 06/04/00 | Cognis Corporation | (S) Specialty polymers | (S) Pentadecanedioic acid*
P-00-0594 | 03/06/00 | 06/04/00 | Cognis Corporation | (S) Specialty polymers | (S) Heptadecanedioic acid*
P-00-0595 | 03/06/00 | 06/04/00 | Cognis Corporation | (S) Specialty polymers | (S) Octadecanedioic acid*
P-00-0596 | 03/06/00 | 06/04/00 | Cognis Corporation | (S) Specialty polymers | (S) Eicosanedioic acid*
P-00-0597 | 03/06/00 | 06/04/00 | Cognis Corporation | (S) Specialty polymers | (S) 5-tetradecenedioic acid, (5z)-*
P-00-0598 | 03/06/00 | 06/04/00 | Cognis Corporation | (S) Specialty polymers | (S) 7-hexadecenedioic acid, (7z)-*
P-00-0599 | 03/06/00 | 06/04/00 | Cognis Corporation | (S) Specialty polymers | (S) 8-heptadecenedioic acid, (8z)-*
P-00-0600 | 03/06/00 | 06/04/00 | Cognis Corporation | (S) Specialty polymers | (S) 9-octadecenedioic acid, (9z)-*
P-00-0601 | 03/06/00 | 06/04/00 | Cognis Corporation | (S) Specialty polymers | (S) 6,9-octadecadienedioic acid, (6z,9z)-*
P-00-0602 | 03/06/00 | 06/04/00 | Cognis corporation | (S) Specialty polymers | (S) 9-eicosenedioic acid, (9z)-*
P-00-0603 | 03/06/00 | 06/04/00 | CBI | (S) Film extrusion;tube extrusion;injection molding | (G) Polyolefin-polyamide
P-00-0604 | 03/06/00 | 06/04/00 | CBI | (S) Film extrusion;tube extrusion;injection molding | (G) Polyolefin-polyamide
P-00-0605 | 03/06/00 | 06/04/00 | CBI | (G) Acrylic pressure sensitive adhesive | (G) Acrylic graft polymer
P-00-0606 | 03/06/00 | 06/04/00 | CBI | (G) An open non-dispersive use. | (G) Rosin modified phenolic resin
P-00-0607 | 03/06/00 | 06/04/00 | CBI | (G) Semiconductor production | (G) Phenolic copolymer
P-00-0608 | 03/07/00 | 06/05/00 | Choisy-tek (USA) Ltd. | (S) Raw material surfactant for formulators | (S) β-alanine, N-(2-carboxyethyl)-N-[3-[(2-carboxyethyl)amino]propyl]-n-coco alkyl derivs., monosodium salts*
P-00-0609 | 03/07/00 | 06/05/00 | Basf corp | (S) Plasticizer in concrete | (G) Polyglycolether - polycarboxylate
P-00-0610 | 03/07/00 | 06/05/00 | 3m company | (S) Fiber treatment | (G) Perfluoroalkyl substituted polyurethane
P-00-0611 | 03/13/00 | 06/11/00 | Basf corp | (S) Plasticizer | (S) Hexanedioic acid, polymer with 2,2-dimethyl-1,3-propanediol and 1,2-propanediol, isononyl ester*
P-00-0612 | 03/13/00 | 06/11/00 | Basf corp | (S) Plasticizer | (S) Hexanedioic acid, polymer with 2,2-dimethyl-1,3-propanediol and 3-hydroxy-2,2-dimethylpropanoic acid, isononyl ester*
P-00-0613 | 03/09/00 | 06/07/00 | Lonza Inc. | (G) Commercial emulsifier | (S) 1,2,3-propanetriol, homopolymer, isooctadecanoate
P-00-0614 | 03/10/00 | 06/08/00 | Strem chemicals, Inc. | (G) Commercial r & d | (G) Metal derivatized tetrasubstituted alkane compound
P-00-0615 | 03/13/00 | 06/11/00 | CBI | (G) Destructive use | (G) Alkylphenol polyether amine
P-00-0616 | 03/10/00 | 06/08/00 | Strem chemicals, Inc. | (S) Chemical intermediate for the production of product described in pmn ts-prd408 | (G) Derivatized tetrasubstituted alkane
P-00-0617 | 03/10/00 | 06/08/00 | Strem chemicals, Inc. | (G) Commercial r & d | (G) Metal derivatized tetrasubstituted alkane compound
P-00-0618 | 03/13/00 | 06/11/00 | CBI | (G) Processing aid | (G) Substituted hydroxy alkane ether
P-00-0619 | 03/13/00 | 06/11/00 | CBI | (G) Emulsifier | (G) Salt of perfluoro fatty acids
P-00-0620 | 03/15/00 | 06/13/00 | CBI | (G) Printing ink | (G) Long chain fatty acids, polymer with a polyoxyalkylene and a cyclic diacid
P-00-0621 | 03/15/00 | 06/13/00 | CBI | (G) Printing ink | (G) Long chain fatty acids, polymer with a polyoxyalkylene and a cyclic diacid
P-00-0622 | 03/15/00 | 06/13/00 | CBI | (G) Printing ink | (G) Long chain fatty acids, polymer with a polyoxyalkylene and a cyclic diacid
P-00-0623 | 03/15/00 | 06/13/00 | CBI | (G) Printing ink | (G) Long chain fatty acids, polymer with a polyoxyalkylene and a cyclic diacid
P-00-0624 | 03/15/00 | 06/13/00 | CBI | (G) Printing ink | (G) Long chain fatty acids, polymer with a polyoxyalkylene and a cyclic diacid
P-00-0625 | 03/15/00 | 06/13/00 | CBI | (G) Printing ink | (G) Long chain fatty acids, polymer with a polyoxyalkylene and a cyclic diacid
P-00-0626 | 03/15/00 | 06/13/00 | CBI | (G) Additive for inks and coatings | (G) Polyurethane acrylate ester
P-00-0627 | 03/14/00 | 06/12/00 | CBI | (G) Semiconductor production | (G) Phenolic copolymer
P-00-0628 | 03/16/00 | 06/14/00 | CBI | (G) Viscosity index improver | (G) Alkyl methacrylate copolymer
P-00-0629 | 03/15/00 | 06/13/00 | Finetex, Inc. | (S) Textile fiber lubricant with high thermal stability;dispersant for titanium dioxide, zincoxide, pigments, etc.;plasticizer for selected polymer systems requiring highthermal stability | (S) Benzoic acid, isooctadecyl ester*
P-00-0630 | 03/16/00 | 06/14/00 | CBI | (G) | (G) Dialkyl formamide
P-00-0631 | 03/16/00 | 06/14/00 | CBI | (G) Destructive | (G) Alkyl arylaminophenylcarboxylate
P-00-0632 | 03/17/00 | 06/15/00 | CBI | (G) Component of manufactured consumer article - contained use | (G) Acetamide, N-[[[3- (dimethyloctadecylheteromonocycle) -4-hydroxyphenyl] sulfonyl] amino]phenyl]-
P-00-0644 | 03/17/00 | 06/15/00 | Union carbide corporation | (G) A component of coatings, elastomers and adhesives | (G) Polycaprolactone diol

In table II, EPA provides the following information (to the extent that such information is not claimed as CBI) on the Notices of Commencement to manufacture received:

II. 46 Notices of Commencement From: 02/28/00 to 03/17/00
Case No. | Received Date | Commencement/Import Date | Chemical
P-00-0010 | 03/02/00 | 02/03/00 | (G) Polyurethane
P-00-0018 | 02/29/00 | 01/31/00 | (S) Benzene, ethenyl-, polymer with 1-butene, (2e)-2-butene, (2z)-2-butene, cyclopentene, 2-methyl-1-propene and 1,3-pentadiene*
P-00-0019 | 02/29/00 | 01/31/00 | (S) 4,7-methano-1h-indene, 3a,4,7,7a-tetrahydro-, polymer with 1-butene, (2e)-2-butene, (2z)-2-benzene, cyclopentene, ethenylbenzene, ethenylmethylbenzene, 1h-indene, (1-methylethenyl)benzene, 2-methyl-1-propene, 1,3-pentadiene and 1-propenylbenzene*
P-00-0020 | 02/29/00 | 01/31/00 | (S) 4,7-methano-1h-indene, 3a,4,7,7a-tetrahydro-, polymer with 1-butene, (2e)-2-butene, (2z)-2-butene, cyclopentene, ethenylbenzene, ethenylmethylbenzene, 1h-indene, 2-methyl-1,3-butadiene, (1-methylethenyl)benzene, 2-methyl-1-propene, 1,3-pentadiene and 1-propenylbenzene*
P-00-0021 | 02/29/00 | 01/31/00 | (S) 2,5-furandione, polymer with 1-butene, (2e)-2-butene, (2z)-2-butene, cyclopentene, ethenylbenzene, 2-methyl-1-propene and 1,3-pentadiene*
P-00-0022 | 02/29/00 | 01/31/00 | (S) Benzene, ethenyl-, polymer with 1-butene, (2e)-2-butene, (2z)-2-butene, cyclopentene, 2-methyl-1,3-butadiene, 2-methyl-1-propene and 1,3-pentadiene*
P-00-0023 | 02/29/00 | 01/31/00 | (S) Benzene, ethenyl-, polymer with cyclopentene and 2-methyl-1,3-butadiene*
P-00-0052 | 03/14/00 | 02/29/00 | (G) 1-(2,5-dimethoxyphenyl)-2-propane derivative
P-00-0059 | 03/02/00 | 02/17/00 | (S) 2,5-furandione, polymer with 1-butene and ethene*
P-00-0060 | 03/02/00 | 02/17/00 | (S) 2,5-furandione, polymer with ethene, 5-ethylidenebicyclo[2.2.1]hept-2-ene and 1-propene**
P-00-0081 | 03/03/00 | 02/25/00 | (G) Acrylic copolymer
P-00-0082 | 02/29/00 | 02/11/00 | (G) Silicone modified waterborne polyurethane dispersion
P-00-0103 | 03/15/00 | 02/22/00 | (G) 1,4-butanediol, polymer with 2,4-diisocyanato-1-methylbenzene, 1,2-ethanediamine, polyol and 5-isocyanato-1-(isocyanatomethyl)-1,3,3-trimethylcyclohexane
P-00-0107 | 03/06/00 | 02/17/00 | (G) Acrylic modified polyurethane polymer
P-00-0180 | 03/17/00 | 03/09/00 | (S) 2,5-furandione, telomer with ethenylbenzene and (1-methylethyl)benzene, 3-(dimethylamino)propyl imide*
P-92-0558 | 03/06/00 | 02/07/00 | (G) Ethylene interpolymer
P-92-1016 | 03/06/00 | 02/03/00 | (S) Fatty acids, C16-18 and C18-unsaturated branched and linear, sodium salts.
P-94-0963 | 03/08/00 | 02/15/00 | (G) Polycondensate of aliphatic dicarboxylic acid and alkaediol. polyurethane of aliphatic polyesters
P-95-1115 | 03/13/00 | 02/09/00 | (S) 1,3-bis(1-hydroxy-2,2-dimethoxyethyl)-2-imidazolidinone*
P-95-2087 | 02/29/00 | 05/19/99 | (G) Sulfurized vegetable oil
P-97-0455 | 03/06/00 | 02/01/00 | (S) Fatty acids, C4-24-branched, 2,2-dimethyl-1,3-propanediyl ester*
P-98-0065 | 03/09/00 | 02/10/00 | (S) Poly(oxy-1,2-(ethanediyl), alpha-hydro-omega-hydroxy, monoethers with stearyl alc. distn. lights*
P-98-1264 | 02/28/00 | 02/03/00 | (G) Acrylated polyol
P-98-1265 | 02/28/00 | 02/03/00 | (G) Acrylated urethane
P-99-0216 | 03/10/00 | 02/21/00 | (G) Silica supported magnesium-titanium catalyst
P-99-0849 | 03/06/00 | 02/19/00 | (G) Stryene / acrylate copolymer aqueous dispersion
P-99-0956 | 02/28/00 | 02/20/00 | (G) Chromophore substituted polyoxyalkylene
P-99-1007 | 03/14/00 | 02/21/00 | (G) Polyimide precursor solution
P-99-1038 | 03/06/00 | 02/09/00 | (G) Acrylate ester
P-99-1039 | 03/06/00 | 02/09/00 | (G) Silicone bifunctional acrylate
P-99-1049 | 03/13/00 | 02/24/00 | (G) Alkyl amine
P-99-1097 | 03/13/00 | 03/06/00 | (S) Benzoic acid, 2-amino-, cyclohexyl ester*
P-99-1155 | 03/07/00 | 02/10/00 | (G) Fatty-sulfosuccinate
P-99-1179 | 03/17/00 | 03/15/00 | (G) Dialkylphenol
P-99-1195 | 03/13/00 | 03/10/00 | (G) Acrylic copolymer
P-99-1209 | 03/15/00 | 02/03/00 | (G) Alkyd resin
P-99-1227 | 03/14/00 | 02/23/00 | (G) Stabilized hypochlorite
P-99-1228 | 03/14/00 | 02/23/00 | (G) Stabilized hypochlorite
P-99-1306 | 03/10/00 | 02/29/00 | (G) Copolymer of methyl methacrylate, styrene and cyclohexyl maleimide
P-99-1341 | 03/01/00 | 02/11/00 | (G) Metallic salt of 2 naphthalene carboxylic acid 4,4′ methylene bis [3-hydroxy
P-99-1342 | 03/01/00 | 02/15/00 | (G) Metallic salt of 2 naphthalene carboxylic acid 4,4′ methylene bis [3-hydroxy
P-99-1348 | 03/01/00 | 02/14/00 | (G) Metallic salt of b-oxynaphthoic acid
P-99-1384 | 02/28/00 | 01/31/00 | (G) Lithium salt of disubstituted fluorene
P-99-1386 | 02/28/00 | 02/15/00 | (G) Dimethyl bis(substituted cylopentadienyl) metallocene
P-99-1390 | 03/14/00 | 02/21/00 | (G) Alanine, n-[3-(acetylamino)-4-[(substituted)azo]phenyl]-n-ethyl-, ethyl ester
P-99-1393 | 02/28/00 | 02/23/00 | (G) Blocked aromatic isocyanate
P-99-1407 | 02/28/00 | 02/07/00 | (G) Dilithium salt of methane bridged substituted bis cyclopentadiene

List of Subjects

Environmental protection, Chemicals, Premanufacturer notices.

Dated: April 14, 2000.
Deborah A. Williams,
Acting Director, Information Management Division, Office of Pollution Prevention and Toxics.

[FR Doc. 00-10040 Filed 4-20-00; 8:45 am]

BILLING CODE 6560-50-F